DEPARTMENT OF VETERANS AFFAIRS

[OMB Control No. 2900-XXXX]

Agency Information Collection Activity: Veterans Legacy Memorial (VLM)

AGENCY: National Cemetery Administration, Department of Veterans Affairs.

ACTION: Notice.

SUMMARY: National Cemetery Administration (NCA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before February 25, 2025.

ADDRESSES: Comments must be submitted through www.regulations.gov.

FOR FURTHER INFORMATION CONTACT:

Program-Specific information: Brian Hurley, 202-957-2093, Brian.Hurley1@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to section 3506(c)(2)(A) of the PRA.

With respect to the following collection of information, NCA invites comments on: (1) whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Title: Veterans Legacy Memorial (VLM).

OMB Control Number: 2900-XXXX. https://www.reginfo.gov/public/do/PRASearch (Once at this link, you can enter the OMB Control Number to find the historical versions of this Information Collection).

Type of Review: Existing collection in use without an OMB Control Number.

Abstract: NCA owns and manages the Veterans Legacy Memorial (VLM)—the largest Veteran memorialize site in the nation. VLM provides eligible Veterans with enhanced memorialization services by honoring their military service through online, web-based memorial pages. Users such as Next of Kin, friends, researchers, servicemembers, and the public are permitted to submit a variety of content to a Veterans VLM page including tributes, images, biographies, career and life milestones, documents, and more. Living Veterans who have requested and received an eligibility determination for burial in a VA national cemetery in advance of need may also submit biographical content to the VA so that after they die, if a VLM page is created for them by the VA, the content they submitted will appear on their VLM page. Next of Kin and Living Veterans are sent a general solicitation for this voluntary information, and all submitted content is moderated by the VA to ensure it complies with the VLM User Policy, available here: https://www.cem.va.gov/VLM/userpolicy.asp. The information obtained through this collection is used solely to provide enhanced memorialization services that honor eligible deceased Veterans.

Affected Public: Veterans who have been determined to be eligible for VA burial in advance of their time of need, their Next of Kin, and the public.

Estimated Annual Burden: 22,500 hours.

Estimated Average Burden per Respondent: 18 minutes.

Frequency of Response: One-time.

Estimated Number of Respondents: 75,000.

Authority: 44 U.S.C. 3501 et seq.

Maribel Aponte,
VA PRA Clearance Officer, Office of Enterprise and Integration/Data Governance Analytics, Department of Veterans Affairs.

[FR Doc. 2024-30949 Filed 12-26-24; 8:45 am]

BILLING CODE 8320-01-P